DEPARTMENT OF TRANSPORTATION

Federal Aviation Administration

Proposed Advisory Circular; Calibration Test, Endurance Test and Teardown Inspection for Turbine Engine Certification (Sections 33.85/87/93)

AGENCY: Federal Aviation Administration, DOT.

ACTION: Notice of availability of proposed advisory circular and request for comments.

SUMMARY: This notice announces the availability and request for comments of draft Advisory Circular (AC), No. 33.87, Calibration Test, Endurance Test and Teardown Inspection for Turbine Engine Certification (§§ 33.85/87/93).

DATES: Comments must be received on or before September 12, 2005.

ADDRESSES: Send all comments on the proposed AC to the Federal Aviation Administration, Attn: Robert McCabe, Engine and Propeller Standards Staff, ANE-111, Engine and Propeller Directorate, Aircraft Certification Service, 12 New England Executive Park, Burlington, MA 01803-5299.

FOR FURTHER INFORMATION CONTACT: Robert McCabe, Engine and Propeller Standards Staff, ANE-111, at the above address, telephone (781) 238-7138, fax (781) 238-7199. If you have access to the Internet, you may also obtain further information by writing to the following address: robert.mccabe@faa.gov.

SUPPLEMENTARY INFORMATION:

Comments Invited

You may obtain a copy of the draft AC by contacting the person named under FOR FURTHER INFORMATION CONTACT, or if using the Internet, you may obtain a copy at either of the following addresses: http://www.airweb.faa.gov/rgl or http://www.faa.gov/aircraft/draft_doc/. Interested persons are invited to comment on the proposed AC and to submit written data, views, or arguments. Commenters must identify the subject of the AC, and submit comments to the address specified above. The Engine and Propeller Directorate, Aircraft Certification Service, will consider all responses received on or before the closing date for comments before it issues the final AC.

We will also file in the docket all substantive comments received, and a report summarizing them. The docket is available for public inspection both before and after the comment date. If you wish to review the docket in person, you may go to the address above between 9 a.m. and 5 p.m., Monday through Friday, except Federal holidays. If you wish to contact the above individual directly, you can use the above telephone number or e-mail address provided.

Background

This draft advisory circular (AC) would provide guidance and acceptable methods, but not the only methods, of compliance with the test requirements of § 33.85 (calibration test), § 33.87 (endurance test), and § 33.93 (teardown inspection) of Title 14 of the Code of Federal Regulations (14 CFR).

This advisory circular would be published under the authority granted to the Administrator by 49 U.S.C. 106(g), 40113, 44701-44702, 44704, and would provide guidance for the requirements in 14 CFR part 33.

Issued in Burlington, Massachusetts, on August 5, 2005.
Francis A. Favara,
Acting Manager, Engine and Propeller Directorate, Aircraft Certification Service.

[FR Doc. 05-16021 Filed 8-11-05; 8:45 am]

BILLING CODE 4910-13-M